DEPARTMENT OF DEFENSE

Department of the Army

Availability for Non-Exclusive, Exclusive, or Partially Exclusive Licensing of U.S. Patent Concerning Monoclonal Antibody Against Ricin A Chain

AGENCY: Department of the Army, DoD.

ACTION: Notice.

SUMMARY: In accordance with 37 CFR 404.6 and 404.7, announcement is made of the availability for licensing of U.S. Patent No. 5,626,844 entitled “Monoclonal Antibody Against Ricin A Chain,” issued May 6, 1997. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Monoclonal antibodies against the A chain of ricin have been found to be effective in protecting mammals from morbidity arising from exposure to ricin toxin. The neutralizing action of the antibodies does not appear to be mediated by complement or by immunoprecipitation. The antibodies of the invention are characterized as of isotype IgGl having the binding characteristics which include: (a) binding specifically to the neutralizing epitope of the ricin A chain and (b) providing in vitro protection of at least 95% of EL-4 cells from 100 μg/mL ricin challenge when said antibody is present in the tissue culture at a level of at least 1000 μg/mL.

Luz D. Ortiz,
Army Federal Register Liaison Officer.

[FR Doc. 03-9470 Filed 4-16-03; 8:45 am]

BILLING CODE 3710-08-M